DEPARTMENT OF HEALTH AND HUMAN SERVICES

Administration for Children and Families

[CFDA Numbers: 93.581, 93.587, 93.612, 93.340]

Request for Public Comment on the Proposed Adoption of Administration for Native Americans Program Policies and Procedures

AGENCY: Administration for Native Americans, ACF, HHS.

ACTION: Notice for public comment.

SUMMARY: Pursuant to Section 814 of the Native American Programs Act of 1974 (NAPA), as amended, the Administration for Native Americans (ANA) is required to provide members of the public an opportunity to comment on proposed changes in interpretive rules and general statements of policy, and to give notice of the proposed adoption of such changes at least 30 days before the changes become effective. In accordance with notice requirements of NAPA, ANA herein describes its proposed interpretive rules, general statements of policy, and rules of agency procedure or practice as they relate to the Fiscal Year (FY) 2016 Funding Opportunity Announcements (FOA) for the following programs: (1) Social and Economic Development Strategies (hereinafter referred to as SEDS) (HHS-2014-ACF-ANA-NA-0776); (2) Social and Economic Development Strategies- Alaska (hereinafter referred to as SEDS-AK) (HHS-2015-ACF-ANA-NK-0960); (3) Native Asset Building Initiative (hereinafter referred to as NABI) (HHS-2015-ACF-ANA-NO-0954); (4) Sustainable Employment and Economic Development Strategies (hereinafter referred to as SEEDS) (HHS-2014-ACF-ANA-NE-0779); (5) Native Language Preservation and Maintenance (hereinafter referred to as Language Preservation) (HHS-2014-ACF-ANA-NL-0778); (6) Native Language Preservation and Maintenance—Esther Martinez Immersion (hereinafter referred to as Language—EMI) (HHS-2014-ACF-ANA-NB-0780); (7) Environmental Regulatory Enhancement (hereinafter referred to as ERE) (HHS-2014-ACF-ANA-NR-0777); and new FOAs for FY2016—(8) Native Language Community Coordination Demonstration Project (hereinafter referred to as NLCC) (HHS-2016-ACF-ANA-NS-1168); and (9) Native Youth Initiative for Leadership, Empowerment, and Development (hereinafter referred to as Native Youth I-LEAD) (HHS-2016-ACF-ANA-NC-1167) . This notice of public comment also provides additional information about ANA's plan for administering the programs.

DATES: The deadline for receipt of comments is 15 days from the date of publication in the Federal Register.

ADDRESSES: Send comments in response to this notice via email to Lillian Sparks Robinson, Commissioner, Administration for Native Americans at ANACommissioner@acf.hhs.gov. Comments will be available for inspection by members of the public at the Administration for Native Americans, 330 C Street SW., Washington, DC 20201.

FOR FURTHER INFORMATION CONTACT: Carmelia Strickland, Director, Division of Program Operations, ANA (877) 922-9262.

SUPPLEMENTARY INFORMATION: Section 814 of NAPA, as amended, requires ANA to provide notice of its proposed interpretive rules and general statements of policy. The proposed clarifications, modifications, and new text will appear in the eight FY 2016 FOAs: SEDS, SEDS-AK, SEEDS, Language Preservation, Language—EMI, ERE, NLCC, and Native Youth I-LEAD. This notice serves to fulfill this requirement.

A. New Funding Opportunity Announcements (FOAs)

ANA will offer two new FOAs in FY 2016. The proposed changes to FOA content and policies described in this Notice of Public Comment also will be applicable to the new FOAs described here:

1. Native Youth Initiative for Leadership, Empowerment, and Development (I-LEAD) FOA; 42 U.S.C. 2991b (HHS-2016-ACF-ANA-NC-1167): ANA plans to publish a new FOA to support projects that will take a comprehensive, culturally-appropriate, approach to ensure all young Native people can thrive and reach their full potential by fostering Native youth resilience, capacity building, and leadership. The program will be known as Native Youth Initiative for Leadership, Empowerment, and Development (I-LEAD).

While youth development projects are also eligible for funding under ANA's SEDS FOA, Native Youth I-LEAD will specifically focus on implementation of community programs that promote Native youth resiliency and foster protective factors such as connections with Native languages and Elders, positive peer groups, culturally-responsive parenting resources, models of safe sanctuary, and reconnection with traditional healing. Projects will also promote Native youth leadership development through the establishment of local models to instill confidence in Native youth of their value and potential, preparation of older youth to be role models for younger peers, and activities that foster leadership and skills-building. In addition, it is required that Native youth will be actively involved during the planning and implementation phases of the projects to ensure that they are responsive to the needs of Native youth in the communities to be served and to ensure that youth remain engaged throughout the project period. Awards made under this FOA will be cooperative agreements since ANA anticipates substantial programmatic involvement with the recipient during performance of financially-assisted activities that will include specialized and directed technical assistance and support across the cohort of recipients.

ANA's Administrative Policies that prevent recipients from having concurrent or successive grants with the same CFDA Number, 93.612, will not apply to recipients under the Native Youth I-LEAD FOA.

2. Native Language Community Coordination Demonstration Project FOA; (HHS-2016-ACF-ANA-NS-1168): ANA plans to publish a new FOA whose purpose is to build upon the successes of ANA's short-term, project-based Native Language funding. This initiative is intended as a place-based demonstration that will address gaps in community coordination across the Native language educational continuum. An essential aspect of this initiative is community capacity-building focused on the role and influence of Native language on Native students' academic success, school attendance, and career readiness. Projects funded under this initiative will ensure high-quality Native language instruction from early childhood through college and/or career. Projects also will be required to provide appropriate and culturally-responsive curricula, Native language teacher professional development, and additional services and supports that are aligned, implemented, and evaluated to create a seamless path for Native language acquisition across generations for educational and economic success. Awards made under this FOA will be cooperative agreements since ANA anticipates substantial programmatic involvement with the recipient during performance of financially-assisted activities that will include specialized and directed technical assistance and support across the cohort of recipients.

This FOA will be published under ANA's Community Research, Demonstration and Pilot Projects CFDA Number, 93.340. Under the NAPA 42 U.S.C. 2991d, the Commissioner has authority to provide financial assistance conducted to public or private agencies for research, demonstration, or pilot projects which are designed to test or assist in the development of new approaches or methods that will aid in overcoming special problems.

For some time, ANA has heard during tribal consultations and language summits that it is difficult to coordinate stand-alone language programs into the broader educational system. Also, tribal, public, charter, private schools, and colleges and universities that use primarily Native American languages to deliver education report that students from schools, which have been successful in coordinating language programs, have high school graduation rates and college attendance rates above the norm for their peers. This initiative will address gaps in community coordination; bring together key drivers of program effectiveness; test the efficacy of distinctive Native teaching materials, methods, and activities; and, contribute to the evidence base of Native language student outcomes.

Since this program will use the CFDA Number 93.340, ANA's Administrative Policy that prevents applicants from having concurrent grants under the same CFDA Number is not applicable to Native Language Community Coordination Demonstration Project FOA (HHS-2016-ACF-ANA-NS-1168).

a. New Administrative Policy for Native Language Community Coordination Demonstration Project

Applicants for funding under this demonstration project must be able to identify existing Native language instruction programs or partnerships that are in place and will be developed or expanded during the project's implementation. Since one purpose of the demonstration project is to facilitate the coordination of Native language instruction and services among early childhood development, elementary, middle-school, high school, and higher education partners, we require third-party agreements from each of the identified partners describing or demonstrating their commitment to the 5-year project and to verify their role in its implementation. The third-party agreements should be included with the applicant's submission to ANA. Without ANA's receipt of such signed and dated letters from authorized officials of the project's organizational participants prior to the start of the award of grant funds, the applicant's project cannot be approved.

B. Changes to Previously-Published FOAs

1. Native Language Preservation and Maintenance FOA; 42 U.S.C. 2991b-3(a):

(a) In Executive Summary and Section I. Program Description, ANA intends to:

i. Modify the Description and program areas of interest for the Language Preservation FOA to promote the ability to use Language Preservation funding for a broad array of native-language related projects, including the establishment of a language program, or the improvement of an existing program. Program Areas of Interest will be modified to include the development of tools and interactive media to teach Native American language, per NAPA § 803C.

(b) In Section I, Program Description, will include additional language to further distinguish Preservation and Maintenance projects from the types of projects and immersion activities that are specific to the Esther Martinez Immersion (EMI) FOA.

2. Language Preservation and Language-EMI FOAs; 42 U.S.C. 2991b-3(a) and (b)(7):

(a) In Section I. Program Description and Appendix, will remove Language Restoration Projects from the areas of interest and definitions. Current language specifies that Projects funded under the EMI FOA referenced Native American Language Nests, Native American Language Survival Schools, and Native American Language Restoration programs authorized under the Esther Martinez Native American Languages Preservation Act (Pub. L. 109-394), 42 U.S.C. 2991(b)(7).

(b) This change is intended to clarify the focus of the EMI FOA on immersion as the method of instruction for pre-school and school-aged children. Language Restoration programs will continue to be funded by ANA under the Native Language Preservation and Maintenance FOA.

(c) In Section IV.2. The Project Description, in accordance with requirements under the NAPA at 42 U.S.C. 2992B-3, ANA plans to add the requirement for a Program Performance Evaluation Plan to the FY 2016 Preservation and Maintenance and EMI FOAs:

Applicants must describe the plan for the program performance evaluation that will contribute to continuous quality improvement. The program performance evaluation should monitor ongoing processes and the progress towards the goals and objectives of the project. Include descriptions of the inputs (e.g., organizational profile, collaborative partners, key staff, budget, and other resources), key processes, and expected outcomes of the funded activities. The plan may be supported by a logic model and must explain how the inputs, processes and outcomes will be measured, and how the resulting information will be used to inform improvement of funded activities.

Applicants must describe the systems and processes that will support the organization's performance management requirements through effective tracking of performance outcomes, including a description of how the organization will collect and manage data (e.g. assigned skilled staff, data management software) in a way that allows for accurate and timely reporting of performance outcomes. Applicants must describe any potential obstacles for implementing the program performance evaluation and how those obstacles will be addressed.

(d) In Section IV.2. The Project Description, Expected Outcomes (formerly “Outcomes Expected”), ANA intends to revise the current requirement to provide “means of measurement” for the impact indicator for language projects, to “means of measurement/assessment”. Many language projects use assessment tools and ratings as a form of measurement for language proficiency. Therefore, this wording change allows for the use of an assessment tool as an impact indicator.

(e) Use of Federal Application Submission Tool (FAST): ANA's previously announced intention to pilot the Funding Application Submission Tool (F.A.S.T.) form for the Language Preservation and Maintenance FOA is on hold. This announcement was published in the Federal Register on October 16, 2015 (80 FR 62536-37). For technical reasons, ANA no longer intends to pilot the F.A.S.T. for any of the 2016 FOAs.

3. SEDS and SEEDS FOAs; 42 U.S.C. 2991b:

(a) In Section I. Program Description, in order to clearly differentiate between ANA's SEDS FOA and the more targeted SEEDS FOA, ANA will clarify its description of the SEEDS initiative to reflect that SEEDS is designed for new job creation and business development in targeted industries or markets while also allowing for the development of skills, credentials, and experiences that will lead to attainment of new or existing jobs that increase the earned income for the project participants by mid-point of the project period. Training must be directed towards a specific industry. In addition, the recipient will be directly responsible for achieving both of the ANA-required outcomes expected and may not act as a pass-through.

(b) In Section I. Program Description, Professional Development will be revised to Preparation for Work under the program area of interest for SEEDS to include activities that promote short- and long-term job creation by supporting targeted training of individuals to develop new technical skills, secure new credentials, and gain experience that will lead to jobs created and increased earned income.

(c) In Section II. Federal Award Information, Additional Information on Awards, ANA will no longer use funding levels to distinguish award amounts in the SEEDS and SEDS FOAs. Funding Level I was set for projects with requests of $149,999 and under in SEDS and $199,999 and under in SEEDS, to allow competition among projects of similar scale. Projects with funding request of $150,000 and over in SEDS and $200,000 and over in SEEDS were designated as Funding Level II. ANA has not identified a notable difference in the average budget request within funding range as a result of the funding level designation, and therefore will discontinue the use of funding levels.

Instead, ANA encourages applicants to request the level of funding that best meets the needs of the proposed project without exceeding the stated Award Ceiling amount by budget period.

(d) The Award Ceiling for the SEEDS FOA will be reduced from $500,000 to $400,000; however, the project period will remain up to 60 months with five 12-month budget periods. The lower funding ceiling will allow ANA to fund additional projects under this competition. (The Award Ceiling level for awards under the SEDS FOA will remain at $400,000 as well as the same options for project periods as that offered in the FY 2015 FOA.)

4. Native Asset Building Initiative FOA; 42 U.S.C. 2991b:

ANA will discontinue the competition for the Native Asset Building Initiative. The two grants resulting from the partnership between the ANA and the Office of Community Services (OCS) will no longer be available as a single application submission. Asset building projects will be eligible for funding under the annual SEDS FOA. In addition, eligible applicants can participate directly in the OCS's Assets for Independence (AFI) Program. Interested applicants may access the OCS-AFI FOA at http://www.acf.hhs.gov/grants/open/foa/index.cfm?switch=foa&fon=HHS-2015-ACF-OCS-EI-1005.

C. Changes to Administrative Policies for All FOAs (FOA Section I.)

1. The following administrative policy will be added to FY 2016 FOAs; 5 U.S.C. 301:

Compliance with Background Checks and Applicable Child Safety Laws:

“All recipients are expected to comply with applicable federal, tribal, or state law with respect to criminal history record checks and clearance through child abuse and neglect and sex offender registries.”

This new administrative policy will be added to all of our FOAs to ensure that staff hired to implement ANA-funded projects which involve children are fully-vetted with background checks and other applicable laws within the local jurisdiction in which the project operates to help ensure the safety and reduce the risk to participating youth.

D. Changes to Evaluation Criteria for All FOAs (FOA Section V.1. Criteria); 45 CFR 75.204

1. Changes to Evaluation Criteria Maximum Point Values: In all FY 2016 FOAs, ANA proposes to adjust the maximum point values of evaluation criteria to prioritize the elements that are important to project monitoring and project success. ANA intends to add five points to the value for the Approach Criterion for a maximum point value of 35. The point value for the Objective Work Plan (OWP) criterion will be reduced will be reduced by five points for a maximum point value of 20 points. ANA proposes to use the following maximum point values for criteria in all FY 2016 FOAs:

Evaluation criteria | Maximum point values
Need for Assistance | 10 points.
Outcomes Expected | 25 points.
Project Approach | 35 points.
Objective Work Plan | 20 points.
Budget and Budget Justification | 10 points.

2. Changes in Sub-criteria: ANA will streamline the evaluation sub-criteria, and reorganize specific elements, to clarify instructions to panel reviewers:

(a) A new sub-criterion related to the required Problem Statement will be included in the Need for Assistance criterion.

(b) Reference to Specific, Measureable, Achievable, Relevant and Time-bound (S.M.A.R.T.) objectives will be included in the sub-criteria for Objectives and not overall for the Outcomes Expected sections in the Section IV.2. Project Description. Therefore, project outcomes and the impact indicator, which are also elements of the Outcomes Expected sub-criteria, are not required to be S.M.A.R.T.

(c) A new sub-criterion on the Current Status of Language will be added to the Approach section Language Preservation and Maintenance and the EMI FOAs. The Current Status of the Language is currently a requirement in the Approach section of the Project Description. No additional information will be required from the applicant.

E. Change to Recipient Reporting Requirements for All FOAs (FOA Section VI.3.); 45 CFR 75.342

1. Annual Data Report: ANA intends to add an Annual Data Report (ADR) to the reporting requirements for all funded projects. ANA has reduced its reporting requirements to twice—semi-annually and annually. ANA recently streamlined the Objective Progress Report (OPR), and determined that some information previously collected on the OPR is not necessary for project monitoring; however is important when analyzing project data. The ADR will capture this project data throughout the life of the project, versus just asking at the end of the project. The ADR also includes additional program-specific and project assessment questions. The report will supplement the annual OPR and will not deviate from the annual reporting cycle of the OPR, therefore still requiring grantees only report twice annually as stated previously. The report will be due 30 days after the end of each budget period and 90 days after the end of the project period.

F. Relocation of ANA Offices

ANA has relocated its offices to the Mary E. Switzer Memorial Building, 330 C Street SW., Washington, DC 20201. Our phone numbers and email addresses will remain the same. Phone: (877) 922-9262 Fax: (202) 690-7441 Email: anacomments@acf.hhs.gov URL: www.acf.hhs.gov/programs/ana.

Contact information in all FY 2016 FOAs will be updated to provide mailing and physical location addresses for the new building.

Statutory Authority: Section 814 of the Native American Programs Act of 1974 (NAPA), as amended.

Lillian Sparks Robinson,
Commissioner, Administration for Native American.

[FR Doc. 2015-30868 Filed 12-7-15; 8:45 am]

BILLING CODE 4184-34-P